DEPARTMENT OF THE INTERIOR

Bureau of Land Management

[CA-610-02-1610-]

Revised Notice of Intent To Prepare West Mojave Plan and Environmental Impact Statement; California Desert District Office, California

AGENCY: Bureau of Land Management, Interior.

ACTION: Revised Notice of Intent.

SUMMARY: This notice is a revision of the notice of intent published December 5, 1991 (pages 63741) (1991 NOI) for the West Mojave Plan (WMP) (formerly, the “West Mojave Coordinated Management Plan”) and Environmental Impact Statement (EIS). In compliance with the National Environmental Policy Act of 1969 (NEPA), the Federal Land Policy Management Act of 1976 (FLPMA) and the Code of Federal Regulations (40 CFR 1501.7, 43 CFR 1610.2), notice is hereby given that the Bureau of Land Management (BLM) will hold a series of public scoping meetings and will then prepare an Environmental Impact Statement (EIS) for the WMP and related amendments to the BLM's California Desert Conservation Area Plan (CDCA Plan). The purpose of this revision is to invite the public to attend these scoping meetings, to discuss the proposed action and possible alternatives, and to provide comments for consideration during the preparation of the EIS.

DATES: Public scoping meetings will be held in June 2002 to identify issues and concerns involving the WMP's proposals and alternatives, including the conservation strategies developed to conserve the Desert Tortoise, Mohave ground squirrel and other sensitive desert species. All comments received shall be taken into consideration during the preparation of the EIS, prior to issuance of a Record of Decision. Meeting locations and dates will be announced at least 15 days in advance through local media and online at http: //www.ca.blm.gov/news/meetings.html. Scoping comments previously submitted following publication of the 1991 Notice of Intent are still valid and will be considered together with comments received pursuant to this revised notice. Therefore, commentators do not need to resubmit comments but may provide additional comments or clarifications of those previously made. Written comments will be accepted up to thirty (30) days from the date of publication of this notice.

SUPPLEMENTARY INFORMATION: The WMP addresses the management of 3.6 million acres of public lands administered by the BLM in eastern Kern County, southern Inyo County, northern Los Angeles County and western San Bernardino County, all of which are within the State of California. The BLM's Ridgecrest and Barstow field offices administer most of these public lands. A small amount of acreage administered by the BLM's Needles and Palm Springs field offices is also affected. All public lands are within the California Desert Conservation Area, and all lie within the jurisdiction of the BLM's California Desert District.

The WMP is being prepared collaboratively with local jurisdictions, state and other federal agencies. It is the intent of the collaborators that the WMP also serve as a habitat conservation plan (HCP) applicable to the 2.8 million acres of private lands within the planning area. Preparation of the HCP would facilitate the issuance of programmatic incidental take permits by the California Department of Fish and Game and the United States Fish and Wildlife Service to participating cities and counties.

The first step in this effort was the publication of the December 5, 1991 notice of intent and the holding of public scoping meetings in January 1992. This initiated a collaborative planning process which involved scientific data collection and the discussion of conservation issues by representatives of agencies, local jurisdictions, public land users and others with an interest in the future of the western Mojave Desert. These issues included conservation strategies for the desert tortoise, Mohave ground squirrel and other sensitive desert plants and animals, a motorized vehicle access network for public lands in the region, and such multiple use issues as livestock grazing, mining, cultural resources and recreation.

The EIS will assess the environmental impacts of a proposed action and a range of reasonable alternatives (including a “no action” alternative). Any necessary amendments to the BLM's CDCA Plan will be addressed. The EIS will evaluate whether the conservation strategies can recover western Mojave Desert populations of the threatened desert tortoise, the endangered Lane Mountain milkvetch and other sensitive species.

The BLM invites the public to help identify significant issues or concerns to be addressed in the EIS. These will be discussed at a series of additional public scoping meetings to be held in June 2002.

ADDRESSES: Written comments may be forwarded to the following address: Mr. William Haigh, West Mojave Project Manager, Bureau of Land Management, California Desert District Office, 6221 Box Springs Road, Riverside, CA 92507. Citizens submitting written comments will automatically be included in the mailing list.

FOR FURTHER INFORMATION CONTACT: Mr. William Haigh, West Mojave Project Manager, Bureau of Land Management, California Desert District Office, 6221 Box Springs Road, Riverside, CA 92507, telephone (760) 252-6080.

Dated: April 23, 2002.
Linda Hansen,
Acting District Manager, California Desert.

[FR Doc. 02-14292 Filed 6-6-02; 8:45 am]

BILLING CODE 4310-AG-P